DEPARTMENT OF TRANSPORTATION

Federal Railroad Administration

Notice of Safety Advisory

AGENCY: Federal Railroad Administration (FRA), DOT.

ACTION: Notice of safety advisory.

SUMMARY: FRA is issuing Safety Advisory 2002-03 addressing potential catastrophic failure of 100-ton truck bolsters manufactured by National Castings of Sahagun, Mexico, with Association of American Railroads' (AAR) Identification #B-2410 and National Pattern #52122 used in 286,000 pound gross rail load freight cars.

FOR FURTHER INFORMATION CONTACT: Ronald Newman, Motive Power and Equipment Division Staff Director, Office of Safety Assurance and Compliance RRS-14, FRA, 1120 Vermont Avenue NW., Mail Stop 25, Washington, DC 20590 (telephone 202-493-6241) or Thomas Herrmann, Office of Chief Counsel, FRA, 1120 Vermont Avenue, SW., Washington, DC 20590, (telephone (202) 493-6036).

SUPPLEMENTARY INFORMATION: Six recent derailments have been reported by the AAR which are attributed to the failure of truck bolsters manufactured by National Castings of Mexico with AAR ID #B-2410 and National Pattern #52122 used in 286,000 pound gross rail load freight cars. All of the failed bolsters were in Barber S-2-HD trucks on 286,000 pound gross rail load freight cars. Most of the bolsters had evidence of welded repair during their manufacture. Full details are not yet available on all of the failures; however, preliminary investigation indicates that one failure was caused by an inclusion and the others were surface initiated. The incident that is best documented indicates that the failure occurred inboard of the truck side frame between the side bearing cage mounting pad and the inside gibs, initiating from the underside of the bolster. This was a catastrophic failure resulting in a clean break between the pieces. The other known failures appear to be similar in nature.

Information gathered by AAR indicates that there were 29,673 suspect bolsters produced between January 1995 and May 1999. Most of these were shipped to car builders and have since been placed into revenue service. AAR has been actively engaged in producing a list showing where each of the bolsters were installed. Approximately 13,000-15,000 cars may ultimately be affected including double stack, hopper, and tank cars as well as other types of cars. AAR has issued a maintenance advisory (MA-81) and two early warning letters (EW-5191 and EW-5191-S1) which identify some of the series of cars which may be equipped with the involved bolsters. Currently, AAR has identified approximately 348 tank cars in its early warning letters which may be affected. AAR is continuing its efforts to identify any car potentially equipped with these bolsters.

AAR also issued a second supplement to the initial early warning letter (EW-5191-S2) that reports progress toward the identification of a cost-effective x-ray technique to allow safe bolsters to remain in service while insuring that any defective bolsters are removed from the freight car fleet. The supplement endorses segregation of those removed bolsters which have no obvious defects pending possible issuance of instructions for requalification. The supplement further requests notification to eec@aar.com if a cracked or broken National Pattern #52122 bolster is found.

Action Recommended by FRA

• FRA recommends that all railroads and car repair shops diligently adhere to the instructions provided in AAR's maintenance advisory MA-81 and early warning letters EW-5191, EW-5191-S1, and EW-5191-S2. AAR has specifically identified the following cars in the above noted advisory and letters as being potentially equipped with the involved bolster:

Car numbers from MA-81 | Tank car numbers from EW-5191 and EW-5191-S1
AGPX 98000-98099 | NATX 33500-33531
CSXT 487700-487999 | NATX 33533-33535
MHFX 5600-5799 | NATX 33538
TFM 60000-60299 | NATX 33544
TR 527800-528099 | NATX 33549-33552
UP 28000-28639 | NATX 33554-33557
WEPX 2375-2624 | NATX 33559-33560
WEPX 2875-3024 | NATX 33562 ECUX 259000-259129 ECUX 281000-381082 ECUX 281084-281086 ECUX 281088-281093 ECUX 281095-281097 ECUX 281100-281108 UTLX 662506-662565 UTLX 662795-662800

• FRA also recommends that the bolsters on the above identified cars be inspected as thoroughly as possible by visual or other means and/or removed from service as prescribed in AAR's maintenance advisory and early warning letters. Proper precautions must be taken to protect the safety of the employees making the inspections, including proper blue signal protection in accordance with existing Federal regulations contained at 49 CFR part 218.

• FRA further recommends that all railroads and car shops remain alert for the issuance of future AAR early warning letters and/or FRA Safety Advisories which may contain a listing of additional cars potentially equipped with the involved bolster and instructions for the handling of such cars.

FRA may modify Safety Advisory 2002-03, issue additional safety advisories, or take other appropriate action necessary to ensure the highest level of safety on the Nation's railroads.

Issued in Washington, DC on December 24, 2002.
George A. Gavalla,
Associate Administrator for Safety.

[FR Doc. 02-32940 Filed 12-26-02; 9:15 am]

BILLING CODE 4910-06-P